DEPARTMENT OF TRANSPORTATION

Federal Aviation Administration

14 CFR Part 95

[Docket No. 30904; Amdt. No. 507]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, June 27, 2013.

FOR FURTHER INFORMATION CONTACT: Rick Dunham, Flight Procedure Standards Branch (AMCAFS-420), Flight Technologies and Programs Division, Flight Standards Service, Federal Aviation Administration, Mike Monroney Aeronautical Center, 6500 South MacArthur Blvd. Oklahoma City, OK. 73169 (Mail ADDRESSES: P.O. Box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on May 24, 2013.
John M. Allen,
Deputy Director, Flight Standards Service.

Adoption of the Amendment

Accordingly, pursuant to the authority delegated to me by the Administrator, part 95 of the Federal Aviation Regulations (14 CFR part 95) is amended as follows effective at 0901 UTC, June 27, 2013.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Points Amendment 507 Effective Date June 27, 2013

From | To | MEA
§ 95.1001 DIRECT ROUTES—U.S.
COLOR ROUTES
§ 95.10 Amber Federal Airway A1 Is Amended To Read in Part
Takotna River, AK NDB | North River, AK NDB | *7000
*6000-MOCA

From | To | MEA | MAA
§ 95.3000 Low Altitude RNAV Routes
§ 95.3266 RNAV Route T266 Is Amended by Adding
Radky, AK FIX | Xadzy, AK FIX | 7000 | 17500
Xadzy, AK FIX | Vulho, AK FIX | 6000 | 17500
Vulho, AK FIX | Fogid, AK FIX | 5200 | 17500
Fogid, AK FIX | Yicax, AK FIX | 4500 | 17500
Yicax, AK FIX | Neree, AK FIX | 5000 | 17500
Neree, AK FIX | Vazpu, AK FIX | 5100 | 17500
Vazpu, AK FIX | Doozi, AK FIX | 6200 | 17500
Doozi, AK FIX | Annette Island, AK VOR/DME | 5400 | 17500
Is Amended To Delete
Coghlan Island, AK NDB | Fredericks Point, AK NDB | 6500 | 17500
Fredericks Point, AK NDB | Annette Island, AK VOR/DME | 6200 | 17500
§ 95.3302 RNAV Route T302 Is Added To Read
Cukis, OR FIX | Jjace, OR FIX | 7000 | 17500
Jjace, OR FIX | Jjett, OR FIX | 8000 | 17500
Jjett, OR FIX | Jermm, OR FIX | 8000 | 17500
Jermm, OR FIX | Cupri, OR FIX | *7000 | 17500
*5500-MOCA
§ 95.3304 RNAV Route T304 Is Added To Read
Glara, OR FIX | Putzz, OR FIX | 7500 | 17500
Putzz, OR FIX | Jjett, OR FIX | 8000 | 17500
Jjett, OR FIX | Wissl, OR FIX | 8000 | 17500
Wissl, OR FIX | Herbs, OR FIX | *7000 | 17500
*6000-MOCA

From | To | MEA
§ 95.6001 VICTOR ROUTES—U.S.
§ 95.6003 VOR Federal Airway V3 Is Amended To Read in Part
Modena, PA VORTAC | Biggy, NJ FIX | 2500
§ 95.6010 VOR Federal Airway V10 Is Amended To Read in Part
Revloc, PA VOR/DME | Juney, PA FIX | *5000 MAA-12000
*5000-GNSS MEA
§ 95.6066 VOR Federal Airway V66 Is Amended To Read in Part
Bypas, TX FIX | *Hyman, TX FIX | **6000
*5000-MRA
**4400-MOCA
§ 95.6133 VOR Federal Airway V133 Is Amended To Read in Part
Detroit, MI VOR/DME | Salem, MI VORTAC | 2900
§ 95.6419 VOR Federal Airway V419 Is Amended To Read in Part
Modena, PA VORTAC | Biggy, NJ FIX | 2500
§ 95.6536 VOR Federal Airway V536 Is Amended To Read in Part
Pendleton, OR VORTAC | Walla Walla, WA VOR/DME | 4100
§ 95.6595 VOR Federal Airway V595 Is Amended To Read in Part
Drack, OR FIX | *Deschutes, OR VORTAC
| NE BND | 6200
| SW BND | 10500
*7900-MCA Deschutes, OR VORTAC, SW BND
Is Amended To Delete
Deschutes, OR VORATC | Jayte, OR FIX
| NW BND | 12600
| SE BND | 9000
Jayte, OR FIX | Jefsn, OR FIX | 12600
Jefsn, OR FIX | *Harzl, OR FIX
| NW BND | 8000
| SE BND | 12600
*9300-MCA HARZL, OR FIX, SE BND
Harzl, OR FIX | *Portland, OR VOR/DME | 7000
*5500-MCA Portland, OR VOR/DME, SE BND

From | To | MEA | MAA
§ 95.7001 Jet Routes
§ 95.7075 Jet Route J75 Is Amended To Read in Part
Modena, PA VORTAC | Solberg, NJ VOR/DME | 18000 | 23000

From | To | Changeover Points: Distance | Changeover Points: From
§ 95.8003 VOR Federal Airway Changeover Points Airway Segment V140 Is Amended To Add Changeover Point
Panhandle, TX VORTAC | Sayre, OK VORTAC | 42 | Panhandle
V298 Is Amended To Add Changeover Point
Dubois, ID VORTAC | Dunoir, WY VOR/DME | 68 | Dubois
V3 Is Amended To Add Changeover Point
Modena, PA VORTAC | Solberg, NJ VOR/DME | 10 | Modena
V419 Is Amended To Add Changeover Point
Modena, PA VORTAC | Solberg, NJ VOR/DME | 10 | Modena
V444 Is Amended To Modify Changeover Point
Baker City, OR VOR/DME | Boise, ID VORTAC | 25 | Baker City
V60 Is Amended To Delete Changeover Point
Albuquerque, NM VORTAC | Otto, NM VOR | 23 | ALbuquerque
§ 95.8005 Jet Routes Changeover Points Airway Segment J75 Is Amended To Add Changeover Point
Modena, PA VORTAC | Solberg, NJ VOR/DME | 10 | MODENA

[FR Doc. 2013-13032 Filed 5-31-13; 8:45 am]

BILLING CODE 4910-13-P